DEPARTMENT OF LABOR

Employment and Training Administration

[TA-W-50,737; TA-W-50,737A and TA-W-50,737B]

Austin Powder Co., Bend, Oregon, Austin Powder Co., Roseburg, Oregon, and Austin Powder Co., Cleveland, Ohio; Notice of Negative Determination Regarding Application for Reconsideration

By application of April 18, 2003, a state agency representative requested administrative reconsideration of the Department's negative determination regarding eligibility for workers and former workers of the subject firm to apply for Trade Adjustment Assistance (TAA). The denial notice applicable to workers of General Electric Industrial Systems, Drives and Controls, Inc., Salem, Virginia was signed on March 11, 2003, and published in the Federal Register on March 26, 2003 (68 FR 14706).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition was filed on behalf of workers at Austin Powder Company, Bend, Oregon engaged in storage and distribution services. The petition was denied because the petitioning workers did not produce an article within the meaning of section 222(3) of the Act.

In the initial decision, the Department did not acknowledge the state representative's petition filing on behalf of workers at two additional company facilities other than that of Austin Powder, Bend, Oregon. These two additional facilities are Austin Powder, Roseburg, Oregon, and Austin Powder, Cleveland, Ohio.

Upon further review and contact with a company official, it was revealed that workers at the Roseburg facility perform distribution services and the Cleveland, Ohio facility serves as the corporate headquarters. No production occurs at either facility.

Only in very limited instances are service workers certified for TAA, namely the worker separations must be caused by a reduced demand for their services from a parent or controlling firm or subdivision whose workers produce an article and who are currently under certification for TAA.

Conclusion

After review of the application and investigative findings, I conclude that there has been no error or misinterpretation of the law or of the facts which would justify reconsideration of the Department of Labor's prior decision. Accordingly, the application is denied.

Signed at Washington, DC, this 13th day of June, 2003.
Elliott S. Kushner,
Certifying Officer, Division of Trade Adjustment Assistance.

[FR Doc. 03-16890 Filed 7-3-03; 8:45 am]

BILLING CODE 4510-30-P